FEDERAL COMMUNICATIONS COMMISSION

Sunshine Act Meeting; Open Commission Meeting: Wednesday, January 17, 2007

Date: January 10, 2007.

The Federal Communications Commission will hold an Open Meeting on the subjects listed below on Wednesday, January 17, 2007, which is scheduled to commence at 9:30 a.m. in Room TW-C305, at 445 12th Street, SW., Washington, DC. The Meeting will focus on presentations by senior agency officials regarding implementations of the agency's strategic plan and a comprehensive review of FCC policies and procedures.

Presentations will be made in four panels:

Panel One will feature the Managing Director and the Chief of the Consumer & Governmental Affairs Bureau.

Panel Two will feature the Chiefs of the Enforcement Bureau and Public Safety and Homeland Security Bureau.

Panel Three will feature the Chiefs of the Wireless Telecommunications Bureau, Office of Engineering and Technology, and the International Bureau.

Panel Four will feature the Chiefs of the Media Bureau, and Wireline Competition Bureau.

Additional information concerning this meeting may be obtained from Audrey Spivack or David Fiske, Office of Media Relations, (202) 418-0500; TTY 1-888-835-5322. Audio/Video coverage of the meeting will be broadcast live with open captioning over the Internet from the FCC's Audio/Video Events web page at http://www.fcc.gov/realaudio.

For a fee this meeting can be viewed live over George Mason University's Capitol Connection. The Capitol Connection also will carry the meeting live via the Internet. To purchase these services call (703) 993-3100 or go to http://www.capitolconnection.gmu.edu.

Federal Communications Commission.
Marlene H. Dortch,
Secretary.

[FR Doc. 07-163 Filed 1-12-07; 11:49 am]

BILLING CODE 6712-01-P